DEPARTMENT OF THE INTERIOR

National Park Service

[NPS-WASO-NAGPRA-NPS0040116; PPWOCRADN0-PCU00RP14.R50000]

Notice of Intended Repatriation: Virginia Museum of Fine Arts, Richmond, VA

AGENCY: National Park Service, Interior.

ACTION: Notice.

SUMMARY: In accordance with the Native American Graves Protection and Repatriation Act (NAGPRA), the Virginia Museum of Fine Arts intends to repatriate a certain cultural item that meets the definition of a sacred object and that has a cultural affiliation with the Indian Tribes or Native Hawaiian organizations in this notice.

DATES: Repatriation of the cultural item in this notice may occur on or after June 13, 2025.

ADDRESSES: Siera Hyte, Schiller Family Curator of Indigenous American Art, Virginia Museum of Fine Arts, 200 N Arthur Ashe Boulevard, Richmond, VA 23220, telephone (804) 340-1613, email siera.hyte@vmfa.museum.

SUPPLEMENTARY INFORMATION: This notice is published as part of the National Park Service's administrative responsibilities under NAGPRA. The determinations in this notice are the sole responsibility of the Virginia Museum of Fine Arts, and additional information on the determinations in this notice, including the results of consultation, can be found in the summary or related records. The National Park Service is not responsible for the determinations in this notice.

Abstract of Information Available

A total of one cultural item has been requested for repatriation. The one sacred object is a basket made of grasses, sedge root, bracken root, and redbud. The museum's records indicate that it was made in the late 19th century. The basket was purchased from Arthur W. Erickson in Santa Fe, New Mexico in 1994 by Robert and Nancy Nooter, who donated it to the Virginia Museum of Fine Arts in March 2016. It is not currently known when Erickson acquired the object. Results of consultation with the Chemehuevi Indian Tribe's Tribal Historic Preservation Office confirm that the sacred object's designs indicate its connection to Chemehuevi Salt Song ceremonies. To our knowledge, no potentially hazardous substances were used to treat the basket.

Determinations

The Virginia Museum of Fine Arts has determined that:

• The one sacred object described in this notice is a specific ceremonial object needed by a traditional Native American religious leader for present-day adherents to practice traditional Native American religion, according to the Native American traditional knowledge of a lineal descendant, Indian Tribe, or Native Hawaiian organization.

• There is a reasonable connection between the cultural item described in this notice and the Chemehuevi Indian Tribe of the Chemehuevi Reservation, California.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after June 13, 2025. If competing requests for repatriation are received, the Virginia Museum of Fine Arts must determine the most appropriate requestor prior to repatriation. Requests for joint repatriation of the cultural items are considered a single request and not competing requests. The Virginia Museum of Fine Arts is responsible for sending a copy of this notice to the Indian Tribes and Native Hawaiian organizations identified in this notice and to any other consulting parties.

Authority: Native American Graves Protection and Repatriation Act, 25 U.S.C. 3004 and the implementing regulations, 43 CFR 10.9.

Dated: April 30, 2025.
Melanie O'Brien,
Manager, National NAGPRA Program.

[FR Doc. 2025-08470 Filed 5-13-25; 8:45 am]

BILLING CODE 4312-52-P